COMMITTEE FOR THE IMPLEMENTATION OF TEXTILE AGREEMENTS

Announcement of Request for Bilateral Textile Consultations with the Government of the People's Republic of China and the Establishment of Import Limits for Certain Cotton and Man-Made Fiber Textiles and Textile Products in Categories 301, 340/640, 638/639, and 647/648, Produced or Manufactured in the People's Republic of China

May 26, 2005.

AGENCY: Committee for the Implementation of Textile Agreements (Committee).

ACTION: Notice

EFFECTIVE DATE: May 27, 2005.

FOR FURTHER INFORMATION CONTACT: Ross Arnold, International Trade Specialist, Office of Textiles and Apparel, U.S. Department of Commerce, (202) 482-4212. For information on the quota status of these limits, refer to the Bureau of Customs and Border Protection website (http://www.cbp.gov), or call (202) 344-2650. For information on embargoes and quota re-openings, refer to the Office of Textiles and Apparel website at http://otexa.ita.doc.gov.

SUPPLEMENTARY INFORMATION:

Authority: Section 204 of the Agricultural Act of 1956, as amended (7 U.S.C. 1854); Executive Order 11651 of March 3, 1972, as amended.

On May 27, 2005, as provided for under paragraph 242 of the Report of the Working Party on the Accession of China to the World Trade Organization (Accession Agreement), the United States requested consultations with the Government of the People's Republic of China with respect to imports of Chinese-origin combed cotton yarn (Category 301); men's and boys' cotton and man-made fiber shirts, not knit (Category 340/640); man-made fiber knit shirts and blouses (Category 638/639); and man-made fiber trousers (647/648).

Paragraph 242 of the Accession Agreements provides that, upon receipt of the request, the People's Republic of China will hold its shipments to a level no greater than 7.5 percent above the amount entered during the first 12 months of the most recent 14 months preceding the month in which the request for consultations was made. Because this restraint period will be for less than 12 months, the quantitative limit will be prorated to conform to the number of days remaining in the year, beginning on May 27, 2005 (i.e., by a ratio of 219/365). Consistent with paragraph 242, consultations with the People's Republic of China will be held within 30 days of receipt of the request for consultations, and every effort will be made to reach agreement on a mutually satisfactory solution within 90 days of receipt of the request for consultations. If no mutually satisfactory solution were reached during this 90-day consultation period, the United States could continue these limits.

To ensure that the limitations provided for under Paragraph 242 are carried out, the Committee is establishing prorated limits on Chinese origin textile and apparel products in Categories 301, 340/640, 638/639, and 647/648, beginning on May 27, 2005, and extending through December 31, 2005. If agreement on a different limit is reached as a result of the consultations with China, the Committee will issue a Federal Register Notice containing a directive to the Bureau of Customs and Border Protection to implement the negotiated limit.

The Committee solicited public comments with regard to whether imports of Chinese origin textiles and textile products in Categories 301, 340/640, 638/639, and 647/648 were, due to the threat of market disruption, threatening to impede the orderly development of trade in these products (69 FR 68133-Category 301; 69 FR 64913-Category 340/640; 69 FR 64911-Category 638/639; 69 FR 64915-Category 647/648).

The public comment period for each solicitation ended in December 2004. Although the Committee decided to consider these requests and solicited public comments, on December 30, 2004, the Court of International Trade preliminarily enjoined the CITA agencies from considering or taking any further action on these requests and any other requests “that are based on the threat of market disruption”. U.S. Association of Importers of Textiles and Apparel v. United States, Slip Op.04-162. On April 27, 2005, the Court of Appeals for the Federal Circuit granted the U.S. government's motion for a stay of that injunction, pending appeal. U.S. Association of Importers of Textiles and Apparel v. United States, Ct. No. 05-1209. Thus CITA resumed its consideration of these cases. (See 70 FR 24397, published on May 9, 2005).

The Committee determined that imports of Chinese-origin textiles and textile products in Categories 301, 340/640, 638/639, and 647/648, are due to a threat of market disruption, threatening to impede the orderly development of trade in these textile products. A summary statement of the reasons and justifications for the U.S. request for consultations concerning imports of Chinese-origin textiles and textile products in Categories 301, 340/640, 638/639, and 647/648 from the People's Republic of China follows this notice.

A description of the textile and apparel categories in terms of Harmonized Tariff Schedule of the United States numbers is available in the CORRELATION: Textile and Apparel Categories with the Harmonized Tariff Schedule of the United States (see Federal Register notice 69 FR 4926, published on February 2, 2004). Information regarding the 2005 CORRELATION will be published in the Federal Register at a later date.

James C. Leonard III,
Chairman, Committee for the Implementation of Textile Agreements.

Committee for the Implementation of Textile Agreements

May 26, 2005.

Commissioner,

Bureau of Customs and Border Protection, Washington, DC 20229.

Dear Commissioner: Pursuant to Section 204 of the Agricultural Act of 1956, as amended (7 U.S.C. 1854); and Executive Order 11651 of March 3, 1972, as amended, you are directed to prohibit, effective on May 27, 2005, entry into the United States for consumption and withdrawal from warehouse for consumption of combed cotton yarn (Category 301); men's and boys' cotton and man-made fiber shirts, not knit (Category 340/640); man-made fiber knit shirts and blouses (Category 638/639); and man-made fiber trousers (647/648), produced or manufactured in the People's Republic of China and exported during the period beginning on May 27, 2005, and extending through December 31, 2005, in excess of the following limits.

Category | Quantity
301 | 1,450,777 kilograms.
340/640 | 2,213,126 dozens.
638/639 | 2,844,383 dozens.
647/648 | 2,660,678 dozens.

Products which have been exported to the United States prior to May 27, 2005, shall not be subject to the limit established in this directive.

In carrying out the above directions, the Commissioner should construe entry into the United States for consumption to include entry for consumption into the Commonwealth of Puerto Rico.

The Committee for the Implementation of Textile Agreements has determined that these actions fall within the foreign affairs exception of the rulemaking provisions of 5 U.S.C. 553(a)(1).

Sincerely,

James C. Leonard III,

Chairman, Committee for the Implementation of Textile Agreements.

SUMMARY OF THE REASONS AND JUSTIFICATIONS FOR U.S. REQUEST FOR CONSULTATIONS WITH CHINA PURSUANT TO PARAGRAPH 242 OF THE REPORT OF THE WORKING PARTY ON THE ACCESSION OF CHINA TO THE WORLD TRADE ORGANIZATION

Combed Cotton Yarn

Category 301

The United States believes that imports of Chinese origin combed cotton yarn are, due to a threat of market disruption, threatening to impede the orderly development of trade in these products. This finding supports a request for consultations with the Government of the People's Republic of China under Paragraph 242 of the Report of the Working Party on the Accession of China to the World Trade Organization (“Paragraph 242”). The following facts, and others contained in this Statement, support this belief:

U.S. Imports from China Are Increasing Rapidly in Absolute Terms. U.S. imports of combed cotton yarn from China were 2,015,700 kilograms for the entire twelve months of 2004. In the first quarter of 2005, U.S. imports from China were 612,219 kilograms, an increase of 120 percent from the first quarter of 2004.

U.S. Imports from the World Are Increasing Rapidly in Absolute Terms. U.S. imports of combed cotton yarn from all sources increased from 14,724 thousand kilograms in the first quarter of 2004 to 19,544 thousand kilograms in the first quarter of 2005 - an increase of 33 percent.

The Average Unit Value of Imports from China Is Falling in 2005. In 2004, the average unit value of U.S. combed cotton yarn imports from China was US$3.98 per kilogram. In the first three months of 2005, the average unit value of those imports fell to US$3.14 per kilogram, compared to US$3.31 per kilogram for “rest of world” imports.

SUMMARY OF THE REASONS AND JUSTIFICATIONS FOR U.S. REQUEST FOR CONSULTATIONS WITH CHINA PURSUANT TO PARAGRAPH 242 OF THE REPORT OF THE WORKING PARTY ON THE ACCESSION OF CHINA TO THE WORLD TRADE ORGANIZATION

Men's and Boys' Cotton and Man-Made Fiber Shirts, Not Knit

Category 340/640

The United States believes that imports of Chinese origin men's and boys' cotton and man-made fiber shirts, not knit, are, due to a threat of market disruption, threatening to impede the orderly development of trade in these products. This finding supports a request for consultations with the Government of the People's Republic of China under Paragraph 242 of the Report of the Working Party on the Accession of China to the World Trade Organization (“Paragraph 242”). The following facts, and others contained in this Statement, support this belief:

U.S. Imports from China Are Increasing Rapidly in Absolute Terms. U.S. imports of men's and boys' cotton and man-made fiber shirts, not knit, from China were 2,471,403 dozens for the entire twelve months of 2004. In the first quarter of 2005, U.S. imports from China were 1,921,894 dozens, an increase of 284 percent from the first quarter of 2004, and a level of 78 percent of total calendar year 2004 imports from China.

U.S. Imports from the World Are Increasing Rapidly in Absolute Terms. U.S. imports of men's and boys' cotton and man-made fiber shirts, not knit, from all sources, excluding men's and boys' cotton and man-made fiber shirts, not knit, containing U.S. components that were imported under outward processing programs, increased from 9,570 thousand dozens in the first quarter of 2004 to 11,682 thousand dozens in the first quarter of 2005 - an increase of 22 percent. Two-thirds of this increase was attributable to imports from China.

The Average Unit Value of Imports from China Is Falling in 2005. In 2004, the average unit value of U.S. men's and boys' cotton and man-made fiber shirts, not knit, from China was US$84.66 per dozen. In the first three months of 2005, the average unit value of those imports fell to US$64.75 per dozen, compared to US$89.62 for “rest of world” imports.

SUMMARY OF THE REASONS AND JUSTIFICATIONS FOR U.S. REQUEST FOR CONSULTATIONS WITH CHINA PURSUANT TO PARAGRAPH 242 OF THE REPORT OF THE WORKING PARTY ON THE ACCESSION OF CHINA TO THE WORLD TRADE ORGANIZATION

Man-Made Fiber Knit Shirts and Blouses

Category 638/639

The United States believes that imports of Chinese origin man-made fiber knit shirts and blouses are, due to a threat of market disruption, threatening to impede the orderly development of trade in these products. This finding supports a request for consultations with the Government of the People's Republic of China under Paragraph 242 of the Report of the Working Party on the Accession of China to the World Trade Organization (“Paragraph 242”). The following facts, and others contained in this Statement, support this belief:

U.S. Imports from China Are Increasing Rapidly in Absolute Terms. U.S. imports of man-made fiber knit shirts and blouses from China were 2,924,922 dozens for the entire twelve months of 2004. In the first quarter of 2005, U.S. imports from China were 2,751,180 dozens, an increase of 328 percent from the first quarter of 2004, and a level of 94 percent of total calendar year 2004 imports from China.

U.S. Imports from the World Are Increasing Rapidly in Absolute Terms. U.S. imports of man-made fiber knit shirts and blouses from all sources, excluding man-made fiber knit shirts and blouses containing U.S. components that were imported under outward processing programs, increased from 13,630 thousand dozens in the first quarter of 2004 to 14,336 thousand dozens in the first quarter of 2005 - an increase of 5 percent. The absolute increase in imports from China in the first quarter of 2005 (2,109 thousand dozens) is greater than the absolute increase in U.S. imports of this category from the world as a whole (706 thousand dozens).

The Average Unit Value of Imports from China Is Falling in 2005. In 2004, the average unit value of U.S. man-made fiber knit shirts and blouses from China was US$111.39 per dozen. In the first three months of 2005, the average unit value of those imports fell to US$71.72 per dozen, compared to US$60.67 per dozen for “rest of world” imports.

SUMMARY OF THE REASONS AND JUSTIFICATIONS FOR U.S. REQUEST FOR CONSULTATIONS WITH CHINA PURSUANT TO PARAGRAPH 242 OF THE REPORT OF THE WORKING PARTY ON THE ACCESSION OF CHINA TO THE WORLD TRADE ORGANIZATION

Man-Made Fiber Trousers, Slacks and Shorts

Category 647/648

The United States believes that imports of Chinese origin man-made fiber trousers, slacks and shorts are, due to a threat of market disruption, threatening to impede the orderly development of trade in these products. This finding supports a request for consultations with the Government of the People's Republic of China under Paragraph 242 of the Report of the Working Party on the Accession of China to the World Trade Organization (“Paragraph 242”). The following facts, and others contained in this Statement, support this belief:

U.S. Imports from China Are Increasing Rapidly in Absolute Terms. U.S. imports of man-made fiber trousers, slacks and shorts from China were 2,851,512 dozens for the entire twelve months of 2004. In the first quarter of 2005, U.S. imports from China were 2,328,112 dozens, an increase of 278 percent from the first quarter of 2004, and a level of 82 percent of total calendar year 2004 imports from China.

U.S. Imports from the World Are Increasing Rapidly in Absolute Terms. U.S. imports of man-made fiber trousers, slacks and shorts from all sources, excluding man-made fiber trousers, slacks and shorts containing U.S. components that were imported under outward processing programs, increased from 12,031 thousand dozens in the first quarter of 2004 to 12,995 thousand dozens in the first quarter of 2005 - an increase of 8 percent. The absolute increase in imports from China in the first quarter of 2005 (1,713 thousand dozens) is greater than the absolute increase in U.S. imports of this category from the world as a whole (964 thousand dozens).

The Average Unit Value of Imports from China Is Falling in 2005. In 2004, the average unit value of U.S. man-made fiber trousers, slacks and shorts imports from China was US$130.58 per dozen. In the first three months of 2005, the average unit value of those imports fell to US$68.76 per dozen compared to US$62.18 per dozen for “rest of world” imports.

[FR Doc. 05-10841 Filed 5-27-05; 8:45 am]

BILLING CODE 3510-DS-S